ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Monday, Tuesday, Wednesday, and Thursday, May 7-10, 2001, at the times and location noted below.

DATES: The schedule of events is as follows:

Monday, May 7, 2001

9 p.m.-5 p.m. Working Group—Americans with Disabilities Act / Architectural Barriers Act Final Rule (Closed Meeting)

Tuesday, May 8, 2001

9 a.m.-Noon Working Group—Americans with Disabilities Act / Architectural Barriers Act Final Rule (Closed Meeting)

1:30 p.m.-3 p.m. Informal Meeting (Closed Meeting)

3 p.m.-5 p.m. Committee of the Whole—Recreation Facilities Final Rule and Outdoor Developed Areas Proposed Rule (Closed Meeting)

Wednesday, May 9, 2001

9 a.m.-10:30 a.m. Technical Programs Committee

10:30 a.m.-Noon Planning and Budget Committee

1:30 p.m.-2:30 p.m. Public Rights-of-Way Ad Hoc Committee (Closed Meeting)

2:30 p.m.-3:30 p.m. Board Meeting

Thursday, March 15, 2001

9 a.m.-5 p.m. Working Group—Americans with Disabilities Act / Architectural Barriers Act Final Rule (Closed Meeting) (Tentative)

ADDRESSES: The meetings will be held at the Washington Renaissance Hotel, 999 9th Street, NW, Washington, DC.

FOR FURTHER INFORMATION CONTACT: For further information regarding the meetings, please contact Lawrence W. Roffee, Executive Director, (202) 272-5434, extension 113 (voice) and (202) 272-5449 (TTY).

SUPPLEMENTARY INFORMATION: At the Board meeting, the Access Board will consider the following agenda items.

Open Meeting

• Executive Director's Report

• Approval of the Minutes of the March 7, 2001 Board Meeting

• Planning and Budget Committee Report—Budget Spending Plan for Fiscal Year 2001; Fiscal Year 2002 Budget

• Technical Programs Committee Report—Report on Ongoing Research and Technical Assistance Projects; Discussion of Objectives for Visual Alarms Study

Closed Meeting

• Recreation Facilities Final Rule (Voting)

• Report on the ADA and ABA Accessibility Guidelines Final Rule

All meetings are accessible to persons with disabilities. Sign language interpreters and an assistive listening system are available at all meetings. Persons attending Board meetings are requested to refrain from using perfume, cologne, and other fragrances for the comfort of other participants.

James J. Raggio,
General Counsel.

[FR Doc. 01-10016 Filed 4-23-01; 8:45 am]

BILLING CODE 8150-01-P